DEPARTMENT OF LABOR

Employment and Training Administration

[TA-W-65,043]

Daramic, LLC, Owensboro, KY; Notice of Termination of Investigation

Pursuant to Section 221 of the Trade Act of 1974, as amended, an investigation was initiated on January 30, 2009 in response to a worker petition filed by the International Brotherhood of Boilermakers, Local Lodge 726, on behalf of workers of Daramic, LLC, Owensboro, Kentucky.

The petitioner has requested that the petition be withdrawn. Consequently, the investigation has been terminated.

Signed at Washington, DC, this 30th day of April 2009.
Elliott S. Kushner,
Certifying Officer, Division of Trade Adjustment Assistance.

[FR Doc. E9-11847 Filed 5-20-09; 8:45 am]

BILLING CODE 4510-FN-P